ENVIRONMENTAL PROTECTION AGENCY

[EPA-HQ-OA-2006-0082, FRL-8029-6]

Agency Information Collection Activities: Proposed Collection; Comment Request; Valuing Reduced Asthma Episodes for Adults and Children—Research Survey; EPA ICR Number 2216.01

AGENCY: Environmental Protection Agency (EPA).

ACTION: Notice.

SUMMARY: In compliance with the Paperwork Reduction Act (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before April 10, 2006.

ADDRESSES: Submit your comments, referencing docket ID number EPA-HQ-OA-2006-0082, by one of the following methods:

• http://www.regulations.gov; Follow the on-line instructions for submitting comments.

• E-mail: dockins.chris@epa.gov

• Fax: 202-566-2338

• Mail : Office of Environmental Information (OEI) Docket, Environmental Protection Agency, Mailcode 28221T, 1200 Pennsylvania Avenue, NW., Washington, DC 20460

• Hand Deliver: Office of Environmental Information (OEI) Docket in the EPA Docket Center (EPA/DC), EPA West, Room B102, 1301 Constitution Avenue, NW., Washington, DC. Such deliveries are only accepted during the Docket's normal hours of operation, and special arrangements should be made for deliveries of boxed information.

Instructions: Direct your comments to Docket ID No. EPA-HQ-OA-2006-0082. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov website is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Dr. Chris Dockins, Office of Policy, Economics and Innovation, U.S. EPA, Mail Code 1809T, Environmental Protection Agency, 1200 Pennsylvania Avenue NW., Washington DC 20460; telephone number 202-566-2286; fax number 202-566-2338; e-mail address: dockins.chris@epa.gov.

SUPPLEMENTARY INFORMATION:

How Can I Access the Docket and/or Submit Comments?

EPA has established a public docket for this ICR under Docket ID No. EPA-HQ-OA-2006-0082, which is available for online viewing at http://www.regulations.gov, or in person viewing at the Office of Environmental Information (OEI) Docket in the EPA Docket Center (EPA/DC), EPA West, Room B102, 1301 Constitution Avenue, NW., Washington, DC. The EPA/DC Public Reading Room is open from 8 a.m. to 4:30 p.m., Monday through Friday, excluding legal holidays. The telephone number for the Reading Room is 202-566-1744, and the telephone number for the Office of Environmental Information (OEI) Docket is 202-566-1752.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected Entities: Entities potentially affected by this action are individuals volunteering to participate in focus group discussions.

Title: Valuing Reduced Asthma Episodes for Adults and Children—Focus Groups.

ICR Numbers: EPA ICR No. 2216.01.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Asthma is one of the most common chronic illnesses in the United States, particularly among children. The disease is characterized by recurring episodes of symptoms like cough, shortness of breath, and wheezing. Epidemiological studies suggest that ambient air pollution may contribute to exacerbation of these episodes. Acute asthma episodes are a leading cause of work and school absence and contribute to the economic burden of the disease. The policies and programs of many public and private entities including EPA may affect the frequency and severity of asthma episodes, but economic analysis of these programs is hindered by inadequate information about the economic benefits of reduced asthma episodes. The proposed surveys would gather information to support estimation of willingness to pay (WTP) to avoid acute episodes of asthma exacerbation for adults and children.

The survey research has three main objectives. The first is to estimate WTP to reduce frequency of asthma episodes. The second is to examine how the “attributes” of asthma episodes, such as their frequency, severity and symptoms, affect WTP. The third is to provide some evidence on the WTP to reduce the severity of asthma episodes, while holding frequency constant. WTP would be estimated in the context of the severity of the individual's asthma and the activities taken to manage the disease. The resulting estimates will advance research needed to provide researchers and policy analysts with a systematic and credible basis for valuing policies that influence acute asthma episodes.

Through a cooperative agreement from EPA (R-83062801-0), researchers at the University of Central Florida (UCF) have designed and are proposing to conduct a nationwide survey of adult individuals in two parts. One survey would be administered to a sample of adults with physician-diagnosed asthma who have experienced asthma symptoms during the 12 months preceding the survey. This survey focuses on eliciting adults' WTP to reduce the asthma episodes that they experience. The other survey would be administered to a national sample of parents of children with physician-diagnosed asthma who have experienced asthma symptoms during the 12 months preceding the survey. In this case, the focus is on eliciting parents' WTP to reduce the asthma episodes that their children experience.

The purpose of the proposed ICR is to gain approval for these research surveys. A separate is ICR is being proposed for the focus groups needed for survey testing and development. Survey respondents will be selected from a representative national panel of respondents maintained by Knowledge Networks, an online survey company. Subjects will be asked to complete a web-based questionnaire. Participation in the survey is voluntary. The survey is anticipated to be given to a total of 1250 persons, including any pilot versions. A web-based format was chosen because it is the most cost-effective method available to conduct large statistically-based surveys.

An agency may not conduct or sponsor, and a person is not required to respond to, a collection of information unless it displays a currently valid OMB control number. The OMB control numbers for EPA's regulations are listed in 40 CFR part 9 and 48 CFR Chapter 15. The EPA would like to solicit comments in order to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and recordkeeping burden for this collection of information is estimated to average 25 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

The only burden imposed by the survey on respondents will be the time required to respond to the invitation to take the survey, to read the survey instructions, and respond to the survey questions. The survey developers estimate that this will require an average of 25 minutes per respondent. With a total of 1250 respondents, including pretests, this requires a total of approximately 521 hours. Based on an average hourly rate of $26.05 ¹ (including employer costs of all employee benefits), the survey developers expect that the average per-respondent cost for the pilot survey will be $10.86 and the corresponding one-time total cost to all respondents will be approximately $13,568.00. Since this information collection is voluntary and does not involve any special equipment, respondents will not incur any capital or operation and maintenance (O&M) costs.

¹ Employer costs per hour worked for employee compensation and costs as a percent of total compensation: Civilian workers, total compensation, December 2005. (http://stats.bls.gov/news.release/ecec.t02.htm)

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: January 31, 2006.
Al McGartland,
Director, National Center for Environmental Economics, Office of Policy Economics and Innovation.

[FR Doc. E6-1716 Filed 2-7-06; 8:45 am]

BILLING CODE 6560-50-P